DEPARTMENT OF TRANSPORTATION

Federal Aviation Administration

14 CFR Part 39

[Docket No. FAA-2005-21594; Directorate Identifier 2005-NM-067-AD]

RIN 2120-AA64

Airworthiness Directives; McDonnell Douglas Model DC-10-10 and DC-10-10F Airplanes; Model DC-10-15 Airplanes; Model DC-10-30 and DC-10-30F (KC-10A and KDC-10) Airplanes; Model DC-10-40 and DC-10-40F Airplanes; Model MD-10-10F and MD-10-30F Airplanes; and Model MD-11 and MD-11F Airplanes

AGENCY: Federal Aviation Administration (FAA), Department of Transportation (DOT).

ACTION: Notice of proposed rulemaking (NPRM).

SUMMARY: The FAA proposes to adopt a new airworthiness directive (AD) for certain McDonnell Douglas transport category airplanes. This proposed AD would require an inspection of the torque tube assembly for the rudder pedal for cracking; an inspection of the torque tube assembly to determine the thickness of the torque tube wall, if necessary; and replacing the rudder torque tube with a new or serviceable rudder torque tube, if necessary. This proposed AD is prompted by a report of a broken rudder pedal torque tube. We are proposing this AD to prevent failure of a rudder pedal torque tube, which could result in loss of rudder control and nose wheel steering controlled by the rudder pedal, and consequent reduced controllability of the airplane.

DATES: We must receive comments on this proposed AD by August 8, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street SW., room PL-401, on the plaza level of the Nassif Building, Washington, DC. This docket number is FAA-2005-21594; the directorate identifier for this docket is 2005-NM-067-AD.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Comments Invited

We invite you to submit any relevant written data, views, or arguments regarding this proposed AD. Send your comments to an address listed under ADDRESSES. Include “Docket No. FAA-2005-21594; Directorate Identifier 2005-NM-067-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We have received a report indicating that an operator found a broken rudder pedal torque tube on a McDonnell Douglas MD-11 airplane, after hearing a loud bang and the sound of cracking metal before losing rudder input during a pre-flight check. The airplane had accumulated 3,313 landing cycles and 18,416 flight hours. Analysis by the operator and airplane manufacturer revealed that the wall thickness of the torque tube for the rudder pedal was below the minimum specifications at the point of failure. A thin wall and the existence of a weld applied to the outside surface of the wall during manufacture of the torque tube contributed to its failure. Failure of a rudder pedal torque tube could result in loss of rudder control and nose wheel steering controlled by the rudder pedal, and consequent reduced controllability of the airplane.

The torque tube assembly for the rudder pedals on certain Model MD-11 airplanes is identical to those on the affected Model DC-10-10 and DC-10-10F airplanes; Model DC-10-15 airplanes; Model DC-10-30 and DC-10-30F (KC-10A and KDC-10) airplanes; Model DC-10-40 and DC-10-40F airplanes; Model MD-10-10F and MD-10-30F airplanes; and MD-11F airplanes. Therefore, all of these models may be subject to the same unsafe condition.

Relevant Service Information

We have reviewed the following Boeing Alert Service Bulletins:

• DC10-27A236, including Appendix A and Appendix B, dated February 17, 2005, for McDonnell Douglas Model DC-10-10 and DC-10-10F airplanes; Model DC-10-15 airplanes; Model DC-10-30 and DC-10-30F (KC-10A and KDC-10) airplanes; Model DC-10-40 and DC-10-40F airplanes; and Model MD-10-10F and MD-10-30F airplanes; and

• MD11-27A083, including Appendix A and Appendix B, dated February 17, 2005, for McDonnell Douglas Model MD-11 and MD-11F airplanes.

The service bulletins describe the following procedures:

• Doing a special detailed eddy current inspection of the torque tube assembly for the rudder pedal for cracking.

• If no cracking is found, doing a special detailed ultrasonic inspection of the torque tube assembly to determine the wall thickness of the torque tube.

• If any cracking is found or if the wall thickness of the torque tube is below certain limits specified in Appendix B of the service bulletin, replacing the torque tube with a new or serviceable torque tube.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Costs of Compliance

There are about 960 airplanes of the affected design in the worldwide fleet. This proposed AD would affect about 366 airplanes of U.S. registry. The proposed inspection would take about 16 work hours per airplane, at an average labor rate of $65 per work hour. Based on these figures, the estimated cost of the proposed AD for U.S. operators is $380,640, or $1,040 per airplane.

For Model DC-10-10 and DC-10-10F airplanes; Model DC-10-15 airplanes; Model DC-10-30 and DC-10-30F (KC-10A and KDC-10) airplanes; Model DC-10-40 and DC-10-40F airplanes; and Model MD-10-10F and MD-10-30F airplanes: The proposed replacement if necessary would take about 16 work hours per airplane, at an average labor rate of $65 per work hour. Required parts would cost about $12,892 per airplane. Based on these figures, the estimated cost of the proposed replacements is $13,932 per airplane.

For Model MD-11 and MD-11F airplanes: The proposed replacement if necessary would take about 5 work hours per airplane, at an average labor rate of $65 per work hour. Required parts would cost about $12,892 per airplane. Based on these figures, the estimated cost of the proposed replacements is $13,217 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2005-21594; Directorate Identifier 2005-NM-067-AD.

Comments Due Date

(a) The Federal Aviation Administration (FAA) must receive comments on this AD action by August 8, 2005.

Affected ADs

(b) None.

Applicability

(c) This AD applies to the airplanes identified in Table 1 of this AD; certificated in any category.

Table 1—Applicability
McDonnell Douglas— | As identified in—
Model DC-10-10 and DC-10-10F airplanes; Model DC-10-15 airplanes; Model DC-10-30 and DC-10-30F (KC-10A and KDC-10) airplanes; Model DC-10-40 and DC-10-40F airplanes; and Model MD-10-10F and MD-10-30F airplanes | Boeing Alert Service Bulletin DC10-27A236, dated February 17, 2005.
Model MD-11 and MD-11F airplanes | Boeing Alert Service Bulletin MD11-27A083, dated February 17, 2005.

Unsafe Condition

(d) This AD was prompted by a report of a broken rudder pedal torque tube. We are issuing this AD to prevent failure of a rudder pedal torque tube, which could result in loss of rudder control and nose wheel steering controlled by the rudder pedal, and consequent reduced controllability of the airplane.

Compliance

(e) You are responsible for having the actions required by this AD performed within the compliance times specified, unless the actions have already been done.

Eddy Current Inspection and Replacement if Necessary

(f) Within 6 months after the effective date of this AD, do a special detailed eddy current inspection of the torque tube assembly for the rudder pedal for cracks, in accordance with the Accomplishment Instructions of Boeing Alert Service Bulletin DC10-27A236, including Appendix A and Appendix B, dated February 17, 2005; or Boeing Alert Service Bulletin MD11-27A083, including Appendix A and Appendix B, dated February 17, 2005; as applicable. If any crack is found, before further flight, replace the rudder pedal torque tube with a new or serviceable rudder pedal torque tube, in accordance with the applicable service bulletin.

Ultrasonic Inspection and Replacement, if Necessary

(g) If no cracking is found during the special detailed eddy current inspection required by paragraph (f) of this AD, before further flight, do a special detailed ultrasonic inspection of the torque tube assembly for the rudder pedal to determine the wall thickness of the rudder pedal torque tube, in accordance with the Accomplishment Instructions of Boeing Alert Service Bulletin DC10-27A236, including Appendix A and Appendix B, dated February 17, 2005; or Boeing Alert Service Bulletin MD11-27A083, including Appendix A and Appendix B, dated February 17, 2005; as applicable.

(1) If the wall thickness of the torque tube is within the limits identified as area C in Appendix B of the applicable service bulletin, no further action is required by this AD.

(2) If the wall thickness of the torque tube is within the limits identified as area B in Appendix B of the applicable service bulletin, within 6,000 flight hours after doing the special detailed ultrasonic inspection, replace the torque tube with a new or serviceable torque tube, in accordance with the applicable service bulletin.

(3) If the wall thickness of the torque tube is below the minimum limits, which are identified as area A in Appendix B of the applicable service bulletin, before further flight, replace the torque tube with a new or serviceable torque tube, in accordance with the applicable service bulletin.

Alternative Methods of Compliance (AMOCs)

(h)(1) The Manager, Los Angeles Aircraft Certification Office (ACO), FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Los Angeles ACO, to make those findings. For a repair method to be approved, the repair must meet the certification basis of the airplane, and the approval must specifically refer to this AD.

Issued in Renton, Washington, on June 14, 2005.
Kevin M. Mullin,
Acting Manager, Transport Airplane Directorate, Aircraft Certification Service.

[FR Doc. 05-12299 Filed 6-21-05; 8:45 am]

BILLING CODE 4910-13-P